DEPARTMENT OF COMMERCE

National Technical Information Service

National Technical Information Service Advisory Board

AGENCY: National Technical Information Service.

ACTION: Notice of open meeting.

SUMMARY: This notice announces the next meeting of the National Technical Information Service (NTIS) Advisory Board (the Advisory Board).

DATES: The Advisory Board will meet on Monday, June 24, 2024, from 12:30 p.m. to approximately 4:30 p.m., eastern time.

ADDRESSES: This will be a virtual meeting with registration access requirements for attendance. Please note admittance instructions under the SUPPLEMENTARY INFORMATION section of this notice.

FOR FURTHER INFORMATION CONTACT: Elizabeth Shaw, (703) 605-6136, eshaw@ntis.gov or Steven Holland at sholland@ntis.gov.

SUPPLEMENTARY INFORMATION: The Advisory Board is established by section 3704b(c) of title 15 of the United States Code. The charter has been filed in accordance with the requirements of the Federal Advisory Committee Act, as amended (5 U.S.C. app.). The Advisory Board reviews and makes recommendations to improve NTIS programs, operations, and general policies in support of NTIS' mission to advance Federal data priorities, promote economic growth, and enable operational excellence by providing innovative data services to Federal agencies through joint venture partnerships with the private sector.

The meeting is expected to include an update on key national efforts, including the U.S. General Service Administration's Open Government Secretariat's effort to develop the Sixth U.S. Open Government National Action Plan and the key role that Federal agencies, including NTIS, will play; followed by updates on the Agency's operations and activities. A final agenda and summary of the proceedings will be posted on the NTIS website as soon as they are available. (https://www.ntis.gov/about/advisorybd/index.xhtml).

The Federal Register Notification link to attain virtual access for the public to the FACA meeting will be provided on the NTIS website. Accordingly, persons wishing to gain virtual access should register for access no later than Monday, June 3, 2024. If there are sufficient expressions of interest, up to one-half hour will be reserved for public oral comments during the session. Speakers will be selected on a first-come, first-served basis. Each speaker will be limited to five minutes. Questions from the public will not be considered during this period.

Speakers who wish to expand upon their oral statements, those who had wished to speak but could not be accommodated on the agenda, and those who were unable to attend are invited to submit written statements by emailing Elizabeth Shaw or Steven Holland at the email address provided in the FOR FURTHER INFORMATION CONTACT section above.

Alicia Chambers,
NIST Executive Secretariat.

[FR Doc. 2024-07918 Filed 4-12-24; 8:45 am]

BILLING CODE 3510-04-P